DEPARTMENT OF COMMERCE

International Trade Administration

[A-122-850]

Notice of Final Determination of Sales at Less Than Fair Value: Live Swine From Canada

AGENCY: Import Administration, International Trade Administration, Department of Commerce.

SUMMARY: On October 20, 2004, the Department of Commerce published a preliminary determination in the antidumping duty investigation of live swine from Canada. We gave interested parties an opportunity to comment on the preliminary determination. Based upon the results of verification and our analysis of the comments received, we have made certain changes. We continue to find that live swine from Canada were sold in the United States below normal value during the period of investigation. The final weighted-average dumping margins are listed below in the section entitled “Continuation of Suspension of Liquidation.”

DATES: Effective Date: March 11, 2005.

FOR FURTHER INFORMATION CONTACT: Cole Kyle or Andrew Smith, AD/CVD Operations, Office 1, Import Administration, International Trade Administration, U.S. Department of Commerce, 14th Street and Constitution Avenue, NW., Washington, DC 20230; telephone: (202) 482-1503 or (202) 482-1276, respectively.

SUPPLEMENTARY INFORMATION:

Background

On October 20, 2004, the Department of Commerce (“the Department”) published in the Federal Register the preliminary determination in its investigation of live swine from Canada. See Notice of Preliminary Determination of Sales at Less Than Fair Value and Postponement of Final Determination: Live Swine From Canada, 69 FR 61639 (October 20, 2004) (“Preliminary Determination”).

Since the Preliminary Determination, the following events have occurred:

On October 25, 2004, Excel requested that the Department reconsider its preliminary decision to rescind its selection of Excel as a mandatory respondent in this investigation.

On November 3, 2004, the Department decided to verify Excel's questionnaire responses.

On November 29, 2004, Premium Pork Canada, Inc. (“Premium Pork”) withdrew from this investigation.

In November and December 2004, and January 2005, we conducted verifications of the sales and cost of production (“COP”) questionnaire responses submitted by Ontario Pork Producers' Marketing Board (“Ontario Pork”), Hytek, Inc. (“Hytek”), and Excel Swine Services, Inc. (“Excel”) at each company's headquarters and at certain farm locations. We issued verification reports in January 2005.

We received case and rebuttal briefs from the Illinois Pork Producers Association, the Indiana Pork Advocacy Coalition, the Iowa Pork Producers Association, the Minnesota Pork Producers Association, the Missouri Pork Association, the Nebraska Pork Producers Association, Inc., the North Carolina Pork Council, Inc., the Ohio Pork Producers Council, and 119 individual producers of live swine ¹ (collectively, hereinafter, “the petitioners”), Excel, Hytek, Ontario Pork, and Baxter Transport, Ltd., J. Quintaine & Son, Ltd., and Zantingh Swine Inc.

¹ Alan Christensen, Alicia Prill-Adams, Aulis Farms, Baarsch Pork Farm, Inc., Bailey Terra Nova Farms, Bartling Brothers Inc., Belstra Milling Co. Inc., Berend Bros. Hog Farm LLC, Bill Tempel, BK Pork Inc., Blue Wing Farm, Bornhorst Bros, Brandt Bros., Bredehoeft Farms, Inc., Bruce Samson, Bryant Premium Pork LLC, Buhl's Ridge View Farm, Charles Rossow, Cheney Farms, Chinn Hog Farm, Circle K Family Farms LLC, Cleland Farm, Clougherty Packing Company, Coharie Hog Farm, County Line Swine Inc., Craig Mensick, Daniel J. Pung, David Hansen, De Young Hog Farm LLC, Dean Schrag, Dean Vantiger, Dennis Geinger, Double “M” Inc., Dykhuis Farms, Inc., E & L Harrison Enterprises, Inc., Erle Lockhart, Ernest Smith, F & D Farms, Fisher Hog Farm, Fitzke Farm, Fultz Farms, Gary and Warren Oberdiek Partnership, Geneseo Pork, Inc., GLM Farms, Greenway Farms, H & H Feed and Grain, H & K Enterprises, LTD, Ham Hill Farms, Inc., Harrison Creek Farm, Harty Hog Farms, Heartland Pork LLC, Heritage Swine, High Lean Pork, Inc., Hilman Schroeder, Holden Farms Inc., Huron Pork, LLC, Hurst AgriQuest, J D Howerton and Sons, J. L. Ledger, Inc., Jack Rodibaugh & Sons, Inc., JC Howard Farms, Jesina Farms, Inc., Jim Kemper, Jorgensen Pork, Keith Berry Farms, Kellogg Farms, Kendale Farm, Kessler Farms, L.L Murphrey Company, Lange Farms LLC, Larson Bros Dairy Inc., Levelvue Pork Shop, Long Ranch Inc., Lou Stoller & Sons, Inc., Luckey Farm, Mac-O-Cheek, Inc., Martin Gingerich, Marvin Larrick, Max Schmidt, Maxwell Foods, Inc., Mckenzie-Reed Farms, Meier Family Farms Inc., MFA Inc., Michael Farm, Mike Bayes, Mike Wehler, Murphy Brown LLC, Ned Black and Sons, Ness Farms, Next Generation Pork, Inc., Noecker Farms, Oaklane Colony, Orangeburg Foods, Oregon Pork, Pitstick Pork Farms Inc., Prairie Lake Farms, Inc., Premium Standard Farms, Inc., Prestage Farms, Inc., R Hogs LLC, Rehmeier Farms, Rodger Schamberg, Scott W. Tapper, Sheets Farm, Smith-Healy Farms, Inc., Square Butte Farm, Steven A. Gay, Sunnycrest Inc., Trails End Far, Inc., TruLine Genetics, Two Mile Pork, Valley View Farm, Van Dell Farms, Inc., Vollmer Farms, Walters Farms LLP, Watertown Weaners, Inc., Wen Mar Farms, Inc., William Walter Farm, Willow Ridge Farm LLC, Wolf Farms, Wondraful Pork Systems, Inc., Wooden Purebred Swine Farms, Woodlawn Farms, and Zimmerman Hog Farms.

Scope of Investigation

The merchandise covered by this investigation is all live swine (“swine” or “subject merchandise”) from Canada except breeding stock swine. Live swine are defined as four-legged, monogastric (single-chambered stomach), litter-bearing (litters typically range from 8 to 12 animals), of the species sus scrofa domesticus. This merchandise is currently classifiable under Harmonized Tariff Schedule of the United States (“HTSUS”) subheadings 0103.91.00 and 0103.92.00.

Specifically excluded from this scope are breeding stock, including U.S. Department of Agriculture (“USDA”) certified purebred breeding stock and all other breeding stock. The designation of the product as “breeding stock” indicates the acceptability of the product for use as breeding live swine. This designation is presumed to indicate that these products are being used for breeding stock only. However, should the petitioners or other interested parties provide a reasonable basis to believe or suspect that there exists a pattern of importation of such products for other than this application, end-use certification for the importation of such products may be required.

Although the HTSUS headings are provided for convenience and customs purposes, the written description of the merchandise under investigation is dispositive.

Scope Comments

In the Notice of Initiation of Antidumping Duty Investigation: Live Swine from Canada, 69 FR 19815 (April 14, 2004) (“Initiation Notice”), we invited comments on the scope of this proceeding. On May 4, 2004, we received a request from the GOC to amend the scope of this investigation and the companion countervailing duty (“CVD”) investigation. Specifically, the GOC requested that the scope be amended to exclude hybrid breeding stock. According to the GOC, domestic producers use hybrid breeding stock instead of purebred stock to strengthen their strains of swine. The GOC stated that no evidence was provided of injury, or threat of injury, to the domestic live swine industry from the importation of hybrid breeding stock. Furthermore, the GOC noted that the petition excluded USDA certified purebred breeding swine from the scope of the above-mentioned investigations. The GOC argued that the documentation which accompanies imported hybrid breeding swine makes it easy to distinguish hybrid breeding swine from other live swine.

On August 4, 2004, the petitioners submitted a response to the GOC's scope exclusion request and proposed modified scope language. The petitioners stated they did not oppose the GOC's request to exclude hybrid breeding stock, but were concerned about the potential for circumvention of any CVD or antidumping duty (“AD”) order on live swine from Canada through non-breeding swine entering the domestic market as breeding stock. Thus, the petitioners proposed modified scope language that would require end-use certification if the petitioners or other interested parties provide a reasonable basis to believe or suspect that there exists a pattern of importation of such products for other than this application. Moreover, on July 30, 2004, the petitioners submitted a request to the International Trade Commission (“ITC”) to modify the HTSUS by adding a statistical breakout that would separately report imports of breeding animals other than purebred breeding animals, allowing the domestic industry to monitor the import trends of hybrid breeding stock.

On August 9, 2004, both the GOC and the respondent companies submitted comments to respond to the petitioners' proposed revised scope. Both the GOC and the respondent companies stated that they generally agreed with the petitioners' modified scope language, with the two following exceptions: (1) They contended that the petitioners' language setting forth the mechanics of any end use certification procedure was premature and unnecessary, and (2) they argued that the petitioners' language stating that “all products meeting the physical description of subject merchandise that are not specifically excluded are included in this scope” was unnecessary because the physical description of the merchandise in scope remains determinative.

On August 12, 2004, the petitioners submitted a response to the August 9, 2004 comments from the GOC and the respondents. The petitioners reiterated their support for their proposed modification to the scope language. They argued that (1) their proposed language had been used before by the Department in other proceedings; (2) since U.S. importers bear the burden of paying the duties, the importers should be required to certify to the end use of the product; and (3) with the petitioners' concerns about circumvention, the “physical description” language provided an important clarification that all live swine except for the excluded products are included in the scope.

As further discussed in the August 16, 2004 memorandum entitled “Scope Exclusion Request: Hybrid Breeding Stock” (on file in the Department's Central Records Unit in Room B-099 of the main Department building (“CRU”)), we preliminarily revised the scope in both the AD and companion CVD proceedings based on the above scope comments. See Preliminary Determination, 69 FR 61639, 61640-61641, and Notice of Preliminary Determination of Sales at Less Than Fair Value and Postponement of Final Determination: Live Swine from Canada, 69 FR 51800, 51801-51802 (August 23, 2004). No further scope comments were received from any party subsequent to these preliminary determination. Thus, we have adopted the revised scope from the Preliminary Determination for this final determination. The revised scope language is included in the “Scope of Investigation” section, above.

Period of Investigation

The period of investigation (“POI”) is January 1, 2003, through December 31, 2003. This period corresponds to the four most recent fiscal quarters prior to the filing of the petition on March 5, 2004.

Facts Otherwise Available

Section 776(a)(2) of the Act provides that the Department shall apply “facts otherwise available” if, inter alia, a respondent (A) withholds information that has been requested; (B) fails to provide information within the deadlines established, or in the form or manner requested by the Department, subject to subsections (c)(1) and (e) of Section 782; (C) significantly impedes a proceeding; or (D) provides information that cannot be verified.

Section 782(e) of the Act further provides that the Department shall not decline to consider information that is submitted by an interested party and that is necessary to the determination but does not meet all the applicable requirements established by the Department if (1) the information is submitted by the deadline established for its submission; (2) the information can be verified; (3) the information is not so incomplete that it cannot serve as a reliable basis for reaching the applicable determination; (4) the interested party has demonstrated that it acted to the best of its ability in providing the information and meeting the requirements established by the Department with respect to the information; and (5) the information can be used without undue difficulties.

Premium Pork responded to the Department's questionnaires and otherwise participated in this investigation until November 29, 2004, two weeks before Premium Pork's scheduled verification. On November 29, 2004, Premium Pork withdrew from this investigation because of its impending dissolution. See Premium Pork's November 29, 2004 withdrawal letter. Premium Pork's receivers stated that its companies would “not continue their current integrated operations” after its asset sales were completed. Id. The Department has not received any further communication from Premium Pork.

In applying facts otherwise available, section 776(b) of the Act provides that the Department may use an inference adverse to the interests of a party that has failed to cooperate by not acting to the best of its ability to comply with the Department's requests for information. See, e.g, Notice of Final Determination of Sales at Less Than Fair Value and Final Negative Critical Circumstances: Carbon and Certain Alloy Steel Wire Rod from Brazil., 67 FR 55792, 55794-96 (August 30, 2002). Adverse inferences are appropriate “to ensure that the party does not obtain a more favorable result by failing to cooperate than if it had cooperated fully.” See Statement of Administrative Action accompanying the Uruguay Round Agreements Act, H.R. Rep. No. 103-316, at 870 (1994) (“SAA”).

In this case, Premium Pork ultimately failed to cooperate to the best of its ability because it failed to participate in verification. Therefore, the Department finds that in selecting from among the facts otherwise available, an adverse inference is warranted. See, e.g., Notice of Final Determination of Sales at Less Than Fair Value: Certain Frozen and Warmwater Shrimp from Brazil, 69 FR 76910 (December 23, 2004) and accompanying Issues and Decision Memorandum at Comment 22 (the Department applied total adverse facts available where the respondent withdrew from the investigation prior to verification) and Notice of Final Determination of Sales at Less than Fair Value: Circular Seamless Stainless Steel Hollow Products from Japan, 65 FR 42985, 42986 (July 12, 2000) (the Department applied total adverse facts available where the respondent failed to respond to the antidumping questionnaires).

As adverse facts available, we have assigned Premium Pork a margin of 18.87 percent, the highest price-to-price margin alleged in the petition, in accordance with section 776(b)(1). Section 776(b) of the Act notes that an adverse facts available rate may include reliance on information derived from: (1) The petition; (2) a final determination in the investigation; (3) any previous review; or (4) any other information placed on the record. Thus, the statute does not limit the specific sources from which the Department may obtain information for use as facts available. The SAA recognizes the importance of adverse facts available as an investigative tool in antidumping proceedings. The Department's potential use of adverse facts available provides the only incentive to foreign exporters and producers to respond to the Department's questionnaires. See SAA at 868.

Section 776(c) of the Act mandates that the Department, to the extent practicable, shall corroborate secondary information (such as petition data) using independent sources reasonably at its disposal. In accordance with the law, the Department, to the extent practicable, will examine the reliability and relevance of the information used.

To corroborate the margin assigned to Premium Pork, we compared the normal values and U.S. prices submitted by the petitioners, as amended by the Department in the April 7, 2004, Initiation Checklist, to data submitted by the respondents for whom we are calculating a margin. See March 4, 2004, memorandum, “Final Determination of Live Swine from Canada: Corroboration Memorandum.” This comparison corroborates and supports the reliability of the selected margin.

With respect to the relevance aspect of corroboration, however, the Department will consider information reasonably at its disposal as to whether there are circumstances that would render a margin inappropriate. Where circumstances indicate that the selected margin is not appropriate as adverse facts available, the Department will disregard the margin and determine an appropriate margin (see, e.g., Fresh Cut Flowers from Mexico; Final Results of Antidumping Duty Administrative Review, 61 FR 6812, 6814 (February 22, 1996) (where the Department disregarded the highest margin as adverse facts available because the margin was based on another company's uncharacteristic business expense resulting in an unusually high margin)). Therefore, we also examined whether any information on the record would discredit the selected rate as reasonable facts available for Premium Pork. No such information exists. In particular, there is no information that might lead to a conclusion that a different rate would be more appropriate.

Accordingly, we have assigned Premium Pork the rate of 18.87 percent as total adverse facts available. This is consistent with section 776(b) of the Act which states that adverse inferences may include reliance on information derived from the petition.

Fair Value Comparisons

We calculated constructed export price, export price, and normal value based on the same methodologies used in the Preliminary Determination and in our November 3, 2004, calculations ² for Excel, with the following exceptions:

² See Memorandum to File, “Export Price Calculation Memorandum for Excel Swine Services, Inc./Riverbend Colony Hutterian Brethren Trust, Rainbow Colony Hutterian Brethren Trust, and Big Boulder Creek Farms, Ltd.,” dated November 3, 2004, and Memorandum to File, “Cost of Production and Constructed Value Calculation Memorandum—Excel Swine Services, Inc./Riverbend Colony Hutterian Brethren Trust, Rainbow Colony Hutterian Brethren Trust, and Big Boulder Creek Farms, Ltd.,” dated November 3, 2004.

Ontario Pork

We used the sales databases submitted by Ontario Pork after verification, which include the minor corrections presented at verification. We revised Ontario Pork's advertising expenses. See Decision Memorandum at Comment 6. We did not include the U.S. direct selling expense that we included in the Preliminary Determination. See Decision Memorandum at Comment 7. We revised Ontario Pork's reported crossing fees based on information contained in Ontario Pork's verification exhibits. See Memorandum to File, “Ontario Pork Producers’ Marketing Board Final Determination Calculation Memorandum,” dated March 4, 2005.

Excel

We used the U.S. database submitted by Excel after verification in our margin calculations, which includes the minor corrections presented at verification. In addition, we disregarded sales of substandard merchandise. See Decision Memorandum at Comment 51. See Memorandum to File, “Excel Swine Service, Inc. Final Determination Calculation Memorandum,” dated March 4, 2005.

Hytek

We used the databases submitted by Hytek after verification, which include the minor corrections presented at verification. For Hytek's U.S. sales, we accounted for an additional billing adjustment and direct selling expense which were presented as minor corrections at verification. In our product comparisons, we prevented matches between U.S. sales of isoweans and home market sales of spent boars. See Memorandum to File, “Hytek, Ltd. Final Determination Calculation Memorandum,” dated March 4, 2005.

Cost of Production and Constructed Value

We calculated the cost of production (“COP”) and constructed value (“CV”) for Ontario Pork, Hytek, and Excel based on the same methodologies used in the Preliminary Determination, and in our November 3, 2004, calculations ³ for Excel, except for those changes noted in the Memorandum to Neal M. Halper, “Cost of Production and Constructed Value Adjustments for the Final Determination—Ontario Pork Producers' Marketing Board Cost Respondents,” dated March 4, 2005; Memorandum to Neal M. Halper, “Cost of Production and Constructed Value Calculation Adjustments for the Final Determination—Excel Swine Services, Inc./Riverbend Colony of Hutterian Bretheren Trust, Rainbow Colony of Hutterian Bretheren Trust, and Big Boulder Creek Farms Ltd.,” dated March 4, 2005; and Memorandum to Neal M. Halper, “Cost of Production and Constructed Value Adjustments for the Final Determination—Hytek Ltd.,” dated March 4, 2005.

³ See Memorandum to File, “Export Price Calculation Memorandum for Excel Swine Services, Inc./Riverbend Colony Hutterian Brethren Trust, Rainbow Colony Hutterian Brethren Trust, and Big Boulder Creek Farms, Ltd.,” dated November 3, 2004, and Memorandum to File, “Cost of Production and Constructed Value Calculation Memorandum—Excel Swine Services, Inc./Riverbend Colony Hutterian Brethren Trust, Rainbow Colony Hutterian Brethren Trust, and Big Boulder Creek Farms, Ltd.,” dated November 3, 2004.

Home Market Sales Disregarded

Pursuant to section 773(b)(1) of the Act, where less than 20 percent of a respondent's sales of a given product during the POI were at prices less than the COP, we do not disregard any below-cost sales of that product because we determine that in such instances the below-cost sales were not made in “substantial quantities.” Where 20 percent or more of a respondent's sales of a given product are at prices less than the COP, we determine that the below-cost sales represent “substantial quantities” within an extended period of time, in accordance with section 773(b)(1)(A) of the Act. In such cases, we also determine whether such sales were made at prices which would not permit recovery of all costs within a reasonable period of time, in accordance with section 773(b)(1)(B) of the Act.

With respect to Ontario Pork and Hytek, for certain products, more than 20 percent of the comparison market sales were at prices less than the COP and, thus, the below-cost sales were made within an extended period of time in substantial quantities. In addition, these sales were made at prices that did not provide for the recovery of costs within a reasonable period of time. We therefore excluded these sales and used the remaining sales, if any, as the basis for determining NV, in accordance with section 773(b)(1) of the Act.

Verifications

As provided in section 782(i)(1) of the Act, we verified the information submitted by the respondents during November and December, 2004, and January, 2005. We used standard verification procedures, including examination of relevant accounting and production records, as well as original source documents provided by the respondents.

Analysis of Comments Received

All issues raised in the petitioners' and the respondents' case and rebuttal briefs are addressed in the March 4, 2005, Issues and Decision Memorandum for the Final Determination in the Antidumping Duty Investigation of Live Swine from Canada (“Decision Memorandum”) which is hereby adopted by this notice. Attached to this notice as an appendix is a list of the issues that the petitioners and the respondents have raised and to which we have responded in the Decision Memorandum. Parties can find a complete discussion of all issues raised in these investigations and the corresponding recommendations in this public memorandum, which is on file in the Department's CRU. In addition, a complete version of the Decision Memorandum can be accessed directly on the Web at http://ia.ita.doc.gov/frn/summary/list.htm. The paper copy and electronic version of the Decision Memorandum are identical in content.

Continuation of Suspension of Liquidation

In accordance with section 735(c)(1)(B)(ii) of the Act, we are directing the U.S. Customs and Border Protection (“CBP”) to continue to suspend liquidation of all imports of subject merchandise from Canada, except merchandise produced and exported by Hytek, that are entered, or withdrawn from warehouse, for consumption on or after October 20, 2004, the date of publication of the Preliminary Determination in the Federal Register. The CBP shall continue to require a cash deposit or the posting of a bond equal to the weighted-average amount by which the NV exceeds the EP, as indicated in the chart below. For Hytek, because its estimated weighted-average final dumping margin is de minimis, we are directing CBP to terminate suspension of liquidation of Hytek's entries and refund all bonds and cash deposits posted on subject merchandise produced by Hytek. These suspension-of-liquidation instructions will remain in effect until further notice. The weighted-average dumping margins are as follows:

Exporter/manufacturer | Weighted-average margin
Ontario Pork Producers' Marketing Board | 12.68 percent.
Hytek, Inc | 0.53 percent (de minimis).
Premium Pork Canada, Inc | 18.87 percent (AFA).
Excel Swine Services, Inc | 4.64 percent.
All Others | 10.63 percent.⁴
⁴ We excluded the de minimis margin and the margin based on adverse facts available from the calculation of the all-others rate. See Section 735(c)(5)(A) of the Act.

ITC Notification

In accordance with section 735(d) of the Act, we have notified the International Trade Commission (“ITC”) of our determination. As our final determination is affirmative, the ITC will, within 45 days, determine whether these imports are materially injuring, or threatening material injury to, the U.S. industry. If the ITC determines that material injury, or threat of material injury, does not exist, the proceeding will be terminated and all securities posted will be refunded or canceled. If the ITC determines that such injury does exist, the Department will issue an antidumping duty order.

This notice also serves as a reminder to parties subject to administrative protective order (“APO”) of their responsibility concerning the disposition of proprietary information disclosed under APO in accordance with 19 CFR 351.305. Timely notification of return or destruction of APO materials, or conversion to judicial protective order, is hereby requested. Failure to comply with the regulations and the terms of an APO is a sanctionable violation.

This determination is issued and published in accordance with sections 735(d) and 777(i)(1) of the Act.

Dated: March 4, 2005.
Joseph A. Spetrini,
Acting Assistant Secretary for Import Administration.

Appendix

General Issues

Comment 1: Perishable Agricultural Products

Comment 2: Net Income Stabilization Account

Comment 3: Allocation of Total Production Costs

Company Specific Issues

Premium Pork

Comment 4: Premium Pork Withdrawal

Ontario Pork

Comment 5: Monthly Price-Averaging

Comment 6: Advertising Expenses

Comment 7: Bank Charges

Comment 8: Credit Expenses

Comment 9: Freight Expenses

Ontario Pork Farm A

Comment 10: Cost of Feed

Comment 11: Imputed Labor Costs

Comment 12: Cost of Breeding Stock

Comment 13: Denominator Used for the General and Administrative Expense Ratio

Comment 14: Breeding Stock Salvage Value

Comment 15: Sows Supplied by Affiliates

Comment 16: Hogs Used for Personal Consumption

Comment 17: Per-unit Finishing Costs Adjusted by the Feeders Sold

Comment 18: Farm A's Change in Inventory Values

Comment 19: Livestock Purchases in the Indirect Cost Allocation

Comment 20: Lease of Crop Land

Comment 21: Optional Inventory Adjustment

Comment 22: Additional Accrued Cost Items

Comment 23: G&A Expenses

Comment 24: Interest Rates

Ontario Pork Farm B

Comment 25: Affiliated Feed Company

Comment 26: Tile Drainage

Comment 27: Interest Income Earned on NISA and Risk Management Funding

Comment 28: Prepaid Feed Costs

Comment 29: Donated Hogs

Comment 30: Misallocated Costs

Comment 31: Reconciliation Error

Comment 32: Imputed Labor

Comment 33: Interest Expense for Loan

Comment 34: Interest Income

Ontario Pork Farm C

Comment 35: Claimed Offsets for Subsidies

Comment 36: Failure to Report all Feed Costs

Comment 37: Capitalized Feed Costs

Comment 38: Errors Revealed During Verification Should be Corrected

Comment 39: Proper Treatment of “Credit to Barn Quality” Account

Comment 40: G&A Expenses

Comment 41: Collapsing the Operations of Affiliated Suppliers

Ontario Pork Farm D

Comment 42: Costs Related to Transporting Hogs to the Farm

Comment 43: Vaccination Costs of Resold Isoweans

Comment 44: Cost of Feed Produced by the Partners

Comment 45: Price of Corn Set by the Partners for November and December 2003

Comment 46: Depreciation Cost

Comment 47: G&A Offset for Land Rental Income

Comment 48: Labor Allocation

Comment 49: G&A Expenses Related to Fines

Excel

Comment 50: Mandatory Respondent Status

Comment 51: Sales Exclusions

Comment 52: Fertilizer as a Credit to the Cost of Producing Live Swine

Excel Rainbow Colony

Comment 53: Production Quantity

Comment 54: Insurance Premiums

Comment 55: Accrued Labor Costs

Comment 56: Productive Assets Quantity

Comment 57: Disputed Fertilizer Purchases

Comment 58: Startup Adjustment

Excel Riverbend Colony

Comment 59: Foreign Exchange Expense

Comment 60: GST Audit Adjustment

Comment 61: Labor

Excel Big Boulder

Comment 62: Rental Income G&A Offset

Comment 63: Fiscal Year G&A and Financial Expense Ratios

Comment 64: Insurance and Donations

Hytek

Comment 65: CEP Profit

Comment 66: Further Manufacturing Costs

Comment 67: Certain Payments to Owners

Comment 68: Interest Income

[FR Doc. E5-1029 Filed 3-10-05; 8:45 am]

BILLING CODE 3510-DS-P